DEPARTMENT OF ENERGY

[Docket Nos. FE C&E 00-19, C&E 00-20, C&E 00-21, C&E 00-22 and C&E 00-23 Certification Notice—190]

Office of Fossil Energy; Notice of Filings of Coal Capability of Mesquite Power, LLC, GenPower McAdams, LLC, GenPower Dell, LLC, GenPower Kelley, LLC and SRW Cogen. Ltd. Partnership Powerplant and Industrial Fuel Use Act

AGENCY: Office of Fossil Energy, Department of Energy.

ACTION: Notice of filing.

SUMMARY: Mesquite Power, LLC, GenPower McAdams, LLC, GenPower Dell, LLC, GenPower Kelley, LLC and SRW Cogen. Ltd. Partnership submitted coal capability self-certifications pursuant to section 201 of the Powerplant and Industrial Fuel Use Act of 1978, as amended.

ADDRESSES: Copies of self-certification filings are available for public inspection, upon request, in the Office of Coal & Power Im/Ex, Fossil Energy, Room 4G-039, FE-27, Forrestal Building, 1000 Independence Avenue, S.W., Washington, D.C. 20585.

FOR FURTHER INFORMATION CONTACT: Ellen Russell at (202) 586-9624.

SUPPLEMENTARY INFORMATION: Title II of the Powerplant and Industrial Fuel Use Act of 1978 (FUA), as amended (42 U.S.C. 8301 et seq.), provides that no new baseload electric powerplant may be constructed or operated without the capability to use coal or another alternate fuel as a primary energy source. In order to meet the requirement of coal capability, the owner or operator of such facilities proposing to use natural gas or petroleum as its primary energy source shall certify, pursuant to FUA section 201(d), to the Secretary of Energy prior to construction, or prior to operation as a base load powerplant, that such powerplant has the capability to use coal or another alternate fuel. Such certification establishes compliance with section 201(a) as of the date filed with the Department of Energy. The Secretary is required to publish a notice in the Federal Register that a certification has been filed. The following owners/operators of the proposed new baseload powerplants have filed a self-certification in acccordance with section 201(d).

Owner: Mesquite Power, LLC (C&E 00-19).

Operator: Mesquite Power, LLC.

Location: Maricopa County, AZ.

Plant Configuration: Combined-cycle.

Capacity: 1,000 MW.

Fuel: Natural gas.

Purchasing Entities: Sold into the wholesale power market.

In-Service Date: Second quarter of 2003.

Owner: GenPower McAdams, LLC (C&E 00-20).

Operator: General Electric International, Inc.

Location: Attala County, Sallis, MS.

Plant Configuration: Combined-cycle.

Capacity: 640 MW.

Fuel: Natural gas

Purchasing Entities: Sold into the wholesale power market.

In-Service Date: June 2002.

Owner: GenPower Dell, LLC (C&E 00-21).

Operator: General Electric International, Inc.

Location: Mississippi County, Dell, AR.

Plant Configuration: Combined-cycle.

Capacity: 600 MW.

Fuel: Natural gas.

Purchasing Entities: Sold into the wholesale power market.

In-Service Date: June 2002.

Owner: GenPower Kelley, LLC (C&E 00-22).

Operator: General Electric International, Inc.

Location: Flat Creek Road, Quinton, AL.

Plant Configuration: Combined-cycle.

Capacity: 1,086 MW.

Fuel: Natural gas.

Purchasing Entities: Sold into the wholesale power market.

In-Service Date: Summer 2003.

Owner: SRW Cogeneration Limited Partnership (C&E 00-23).

Operator: DuPont de Nemours and Company.

Location: Orange, TX.

Plant Configuration: Combined-cycle.

Capacity: 421 MW.

Fuel: Natural gas.

Purchasing Entities: 50 MW by E.I. DuPont de Nemours, and 250 MW by PG&E Energy Trading-Power, L.P. The balance (approx. 121 MW) will be sold at market.

In-Service Date: August 2001.

Issued in Washington, D.C., October 5, 2000.
Anthony J. Como,
Deputy Director, Electric Power Regulation, Office of Coal & Power Im/Ex, Office of Coal & Power Systems, Office of Fossil Energy.

[FR Doc. 00-26154 Filed 10-11-00; 8:45 am]

BILLING CODE 6450-01-P